DEPARTMENT OF LABOR

Employment and Training Administration

Notice of a Change in Status of an Extended Benefit (EB) Period for Alaska

This notice announces a change in benefit period eligibility under the EB Program for Alaska.

SUMMARY: The following change has occurred since the publication of the last notice regarding the State's EB status:

• February 27, 2000—Alaska triggered “on” EB. Alaska's 13-week insured unemployment rate rose above the 6.0 percent threshold necessary to be triggered “on” to EB for the week ending February 12, 2000.

Information for Claimants

The duration of benefits payable in the EB Program, and the terms and conditions on which they are payable, are governed by the Federal-State Extended Unemployment Compensation Act of 1970, as amended, and the operating instructions issued to the States by the U.S. Department of Labor. In the case of a State beginning an EB period, the State employment security agency will furnish a written notice of potential entitlement to each individual who has exhausted all rights to regular benefits and is potentially eligible for EB (20 CFR 15.13(c)(1)).

Persons who believe they may be entitled to EB, or who wish to inquire about their rights under the program, should contact the nearest State employment service office or unemployment compensation claims office in their locality.

Signed at Washington, DC on March 9, 2000.
Raymond Bramucci,
Assistant Secretary of Labor for Employment and Training.

[FR Doc. 00-7123 Filed 3-21-00; 8:45 am]

BILLING CODE 4510-30-M